DEPARTMENT OF HEALTH AND HUMAN SERVICES

Administration for Children and Families

Notices of Award of Non-Competitive Grant

AGENCY: Administration on Children, Youth and Families (ACYF), ACF, DHHS.

ACTION: Notice; opportunity to comment.

SUMMARY: Notice is hereby given that ACYF is considering awarding discretionary research grant funds without competition to Cornell University, Office of Sponsored Programs, 115 Day Hall, Ithaca, New York 14853, for up to $254,332 of Child Care and Development Block Grant funds in FY 2002. Pending the availability of Federal funds, and the continuing non-Federal support of the project from other sources, ACYF will award up to $254,526 of Child Care and Development Block Grant funds in FY 2003 and up to $245,543 in FY 2004. The project period will begin on September 30, 2002, and end on September 29, 2005. This award will provide Federal support for research to develop econometric models of the child care industry and new strategies for finance and administration.

The proposed research project addresses many questions of relevance to the child care field, to ACF, and to the Child Care Bureau in particular. The project will fill a gap in the information currently available about child care as an economic sector in the U.S. economy and help build a new policy framework from the perspective of economic development. The project is comprised of three interrelated components:

• In the first component, researchers will explore how input/output modeling can be adapted to model the economic development impacts of the child care industry in different States and localities ranging from urban to rural in character. Challenges in estimating employment and productivity of the child care industry with its diverse mix of public, private and non-profit providers will be addressed, as will questions of how to value the economic role played by child care in enabling parents to work. This component will contribute to a better theoretical and empirical understanding of how child care contributes to the broader economy.

• The second component will focus on dissemination. Researchers will develop and test a web-based methodology that can be used by States and localities to measure the economic impact of the child care industry in their region. This tool will enable users to collectively build a national database (using state and local data) and begin to shape a picture of the early care and education industry as a whole.

• The third component of this project will be to monitor how states and cities use an economic development frame to craft new approaches to child care finance and administration. Investigators will track how state and local coalitions engage non-traditional partners (such as business leaders, economists, community developers, and bankers) in building new strategic alliances aimed at strengthening investments in child care.

The study has a strong research design and methodology, builds on a solid understanding of the current state of research in the child care field, and is led by an exceptionally experienced team of investigators. The data collected through this study will provide information urgently needed by policymakers in early education and welfare reform.

The study answers a call for needed research on economic models of child care expressed by researchers and policymakers in the most recent meeting of the Child Care Policy Research Consortium held in Washington, DC, on April 17-19, 2002, and the Annual Meeting of State Child Care Administrators held in Washington, DC, on July 31-August 2, 2002.

Cornell University and its sub-contractor Stoney Associates are in a unique position to carry out this work with highly qualified personnel, university facilities and in-kind resources. Together, they have laid the foundation for this project through previous economic impact research, outreach and participatory research, and evaluation and policy analysis.

• Cornell has started the collaborative planning and groundwork for the study through the Department of City and Regional Planning, the Department of Applied Economics, the Institute for Social and Economic Research (which provides access to social science data), and the Community and Rural Development Institute (which works with local and state policy makers on community development, outreach, and research).

• Stoney Associates is a nationally recognized consulting firm and leader in the area of early education and child care finance. Stoney Associates has excellent connections with State and local child care administrators, and is a founding partner in the Alliance for Early Childhood Finance, a national organization focused on developing new strategies for financing of child care in America.

Therefore, while the project will provide a substantial benefit in the child care field, ACF, and the Child Care Bureau in particular, the amount of ACF funding needed is minimal due to the work already completed or underway through other funding sources.

The Agency is providing members of the public, including qualified organizations that would be interested in competing for the funding, if a competition were held, an opportunity to comment on the planned action.

Statutory Authority: This award will be made pursuant to the Child Care and Development Block Grant Act of 1990 as amended (CCDBG Act); section 418 of the Social Security Act; Consolidated Appropriations Act, 2001 (Pub. L. 106-554). The Catalog of Federal Domestic Assistance is 93.647.

DATES: In order to be considered, comments on this planned action must be received on or before October 7, 2002.

ADDRESSES: Interested parties, including qualified organizations that would be interested in competing for the funding, if a competition were held, should write to: Karen Tvedt, Child Care Bureau, Administration on Children, Youth and Families (ACYF), Administration for Children and Families (ACF), Department of Health and Human Services, 330 C Street, SW., Room 2046, Washington, DC 20447; e-mail address: ktvedt@acf.hhs.gov.

FOR FURTHER INFORMATION CONTACT: Karen Tvedt, Child Care Bureau, at (202) 401-5130.

(Catalog of Federal Domestic Assistance Program Number 93.647, Child Care Research Discretionary Grants)
Dated: September 23, 2002.
Joan E. Ohl,
Commissioner, Administration on Children, Youth and Families.

[FR Doc. 02-24658 Filed 9-26-02; 8:45 am]

BILLING CODE 4184-01-M